DEPARTMENT OF COMMERCE

Foreign-Trade Zones Board

[Docket T-2-2008]

Foreign-Trade Zone 26—Atlanta, GA; Application for Temporary/Interim Manufacturing Authority; Termination of Review; Kia Motors Manufacturing Georgia, Inc. (Motor Vehicles)

Notice is hereby given that the Foreign-Trade Zones (FTZ) Board staff has terminated its review of the application requesting temporary/interim manufacturing (T/IM) authority within FTZ 26 at the Kia Motors Manufacturing Georgia, Inc. (KMMG) facility in West Point, Georgia. The application was filed on May 7, 2008 (73 FR 27492, 5-13-2008). Substantive comments submitted in opposition to the KMMG application during the public comment period remove the application from eligibility under the specific T/IM standard of “clearly presenting no new, complex, or controversial issues” (see “Proposals to Facilitate the Use of Foreign-Trade Zones by Small and Medium-Sized Manufacturers,” 69 FR 17643, 4/5/2004). The review was terminated on September 12, 2008.

Dated: September 26, 2008.
Andrew McGilvray,
Executive Secretary.

[FR Doc. E8-23738 Filed 10-6-08; 8:45 am]

BILLING CODE 3510-DS-P